POSTAL SERVICE

Notice of Availability of Final Environmental Impact Statement for Purchase of Next Generation Delivery Vehicles

AGENCY: Postal Service.

ACTION: Notice of availability of final environmental impact statement.

Pursuant to the requirements of the National Environmental Policy Act of 1969 (NEPA), its implementing procedures at 39 CFR 775, and the President's Council on Environmental Quality Regulations (40 CFR parts 1500-1508), the U.S. Postal Service announces availability of the Final Environmental Impact Statement (FEIS) to purchase over ten years 50,000 to 165,000 purpose-built, right-hand-drive vehicles—the Next Generation Delivery Vehicle (NGDV)—to replace existing delivery vehicles nationwide that are approaching the end of their service life. While the Postal Service has not yet determined the precise mix of the powertrains in the new vehicles to be purchased, under the Proposed Action, at least ten percent of the NGDV would have battery electric (BEV) powertrains, with the remainder being internal combustion (ICE). The FEIS evaluates the environmental impacts of the Proposed Action, as well as two BEV and ICE commercial off-the-shelf (COTS) vehicle alternatives and the “no action” alternative.

The U.S. Environmental Protection Agency's publication of the FEIS in the Federal Register begins a 30-day waiting period. Following the waiting period, the U.S. Postal Service will make a final decision regarding the Proposed Action and complete a Record of Decision.

ADDRESSES: Interested parties may view the FEIS at http://uspsngdveis.com/.

References

1. U.S. Postal Service, Notice of Intent to Prepare an Environmental Impact Statement for Purchase of Next Generation Delivery Vehicles, 86 FR 12715 (Mar. 4, 2021).

2. U.S. Postal Service, Notice of Availability of Draft Environmental Impact Statement for Purchase of Next Generation Delivery Vehicle, 86 FR 47662 (Aug. 26, 2021).

3. U.S. Environmental Protection Agency, Notice of Availability of EIS No. 20210129, Draft, USPS, DC, Next Generation Delivery Vehicle Acquisitions, 86 FR 49531 (Sept. 3, 2021).

Ruth Stevenson,
Chief Counsel, Ethics and Legal Compliance.

[FR Doc. 2022-00037 Filed 1-6-22; 8:45 am]

BILLING CODE 7710-12-P